DEPARTMENT OF STATE

[Public Notice 4267]

Notice of Meeting of the United States International Telecommunication Advisory Committee Radiocommunication Sector (ITAC-R)

The Department of State announces a meeting of the ITAC-R. The purpose of the Committee is to advise the Department on matters related to telecommunication and information policy matters in preparation for international meetings pertaining to telecommunication and information issues.

The ITAC-R will meet to discuss the matters related to the World Radiocommunication Conference that will take place 9 June-4 July 2003 in Geneva, Switzerland. The ITAC-R meeting will be convened on 4 April 2003 from 2 to 4 p.m. in the Dean Acheson Auditorium at the Department of State. The Department of State is located at 2201 C St., NW., Washington, DC.

Members of the public will be admitted and may join in the discussions subject to the instructions of the Chair. Entrance to the Department of State is controlled. Persons planning to attend the meeting should send the following data by fax to (202) 647-7407 or email to worsleydm@state.gov not later than 24 hours before the meeting: (1) Name of the meeting, (2) your name, (3) social security number, (4) date of birth, and (5) organizational affiliation. One of the following current photo identifications must be presented to gain entrance to the Department of State: U.S. driver's license with your photo on it, U.S. passport, or U.S. Government identification. Directions to the Department of State may be obtained by calling the ITAC Secretariat at 202-647-2592 or emailing to worsleydm@state.gov.

Dated: March 26, 2003.
Douglas R. Spalt,
International Telecommunications and Information Policy, Department of State.

[FR Doc. 03-7779 Filed 3-28-03; 8:45 am]

BILLING CODE 4710-45-P